DEPARTMENT OF LABOR

Mine Safety and Health Administration

30 CFR Part 75

Self-Contained Self-Rescuers (SCSRs); Updating a Reference for Locating SCSRs More Than 25 Feet From a Miner

AGENCY: Mine Safety and Health Administration (MSHA), Labor.

ACTION: Technical amendment.

SUMMARY: This technical amendment updates the reference in 30 CFR 75.1714-2(e) (Self-rescue devices; use and location requirements) from 30 CFR 75.1101-23 (Program of instruction; location and use of fire fighting equipment; location of escapeways, exits and routes of travel; evacuation procedures; fire drills) to 30 CFR 75.1502 (Mine emergency evacuation and firefighting program of instruction). This action is necessary to amend the outdated reference in § 75.1714-2(e).

DATES: Effective February 23, 2004.

FOR FURTHER INFORMATION CONTACT: Marvin W. Nichols, Jr., Director, Office of Standards, Regulations, and Variances, MSHA, 1100 Wilson Blvd., Room 2350, Arlington, Virginia 22209-3939, Nichols.Marvin@dol.gov, (202) 693-9440 (telephone), or (202) 693-9441 (facsimile).

SUPPLEMENTARY INFORMATION:

Background

On September 9, 2003, we published the Emergency Evacuations final rule (68 FR 53037 Sept. 9, 2003). Among other things, the rule removed § 75.1101-23 (Program of instruction; location and use of fire fighting equipment; location of escapeways, exits and routes of travel; evacuation procedures; fire drills) and replaced it with § 75.1502 (Mine emergency evacuation and firefighting program of instruction). The Emergency Evacuations final rule was effective upon publication in the Federal Register.

In issuing the Emergency Evacuations rule we inadvertently omitted updating the reference in § 75.1714-2(e). Section 75.1714-2(e) references another section of 30 CFR which provides the mechanism for mine operators to apply to the District Manager for permission to place SCSRs more than 25 feet away from a miner. The reference to § 75.1101-23 in § 75.1714-2(e) should have been renumbered to correspond with the change in the numbering in the Emergency Evacuations rule. This technical amendment updates the language in § 75.1714-2(e) to refer to the renumbered standard.

Discussion of Change

Section 75.1714-2 (Self-rescue devices; use and location requirements) requires self-rescue devices to be used and located as prescribed in paragraphs (b) through (f) of this section. Paragraph (e) provides the mechanism for a mine operator to allow placement of self-contained self-rescuers (SCSRs) more than 25 feet away when necessary. The mine operator must apply to the District Manager of the Coal Mine Safety and Health district in which the mine is located for permission to place the SCSR more than 25 feet away.

Prior to the promulgation of the Emergency Evacuations rule, the mine operator submitted an application to the District Manager under § 75.1101-23. The promulgation of the Emergency Evacuations rule removed § 75.1101-23 and created § 75.1502 (Mine emergency evacuation and firefighting program of instruction).

This technical amendment updates wording in § 75.1714-2(e) to correctly reference the renumbered § 75.1502 (Mine emergency evacuation and firefighting program of instruction).

List of Subjects in 30 CFR Part 75

Coal mines, Underground coal mining, Fire prevention, Mine safety and health.

Dated: February 13, 2004.
Dave D. Lauriski,
Assistant Secretary of Labor for Mine Safety and Health.

Chapter I of title 30, part 75 of the Code of Federal Regulations is amended as follows:

PART 75—[AMENDED]

1. The authority citation for part 75 continues to read as follows:

Authority: 30 U.S.C. 811.

2. Section 75.1714-2 is amended by revising paragraph (e) introductory text to read as follows:

§ 75.1714-2 Self-rescue devices; use and location requirements.

* * * * *

(e) A mine operator may apply to the District Manager under § 75.1502 for permission to place the SCSR more than 25 feet away.

* * * * *

[FR Doc. 04-3771 Filed 2-20-04; 8:45 am]

BILLING CODE 4510-43-P